DEPARTMENT OF HEALTH AND HUMAN SERVICES

Centers for Disease Control and Prevention (CDC)

Notice of Intent To Award Affordable Care Act Funding, DP-09-001

AGENCY: Centers for Disease Control and Prevention (CDC), Department of Health and Human Services (HHS).

ACTION: Notice.

SUMMARY: This notice provides public announcement of CDC's intent to fund Approved cooperative agreement applications previously received and competed in response to CDC Funding Opportunity, RFA-DP-09-001, “Health Promotion and Disease Prevention Research Centers (U48).” It is the intent of CDC to fund the applications with Patient Protection Affordable Care Act (ACA), Section 4002, appropriations.

CFDA Number 93.542 is the ACA-specific CFDA number for this initiative.

Award Information

Approximate Current Fiscal Year Funding: $10,000,000.

Approximate Number of Awards: 15-17.

Approximate Average Award: $625,000.

Fiscal Year Funds: 2011.

Anticipated Award Date: September 30, 2011.

Budget Period: 12 months.

Project Period: 1 year.

Application Selection Process

Only applicants who have applied for and have been selected as Prevention Research Centers under CDC Program Announcement DP-09-001 were eligible to apply for the annual continuation funding.

Funding Authority

CDC will add the following Authority to that which is reflected in the published Funding Opportunity:

—Section 4002 of the Patient Protection and Affordable Care Act (Pub. L. 111-148.).

DATES: The effective date for this action is August 23, 2011 and remains in effect until the expiration of the project period of the ACA funded applications.

FOR FURTHER INFORMATION CONTACT: Elmira Benson, Deputy Director, Procurement and Grants Office, Centers for Disease Control and Prevention, 2920 Brandywine Road, Atlanta, GA 30341, telephone (770) 488-2802, e-mail Elmira.Benson@cdc.gov.

SUPPLEMENTARY INFORMATION: On March 23, 2010, the President signed into law the Patient Protection and Affordable Care Act (ACA). ACA is designed to improve and expand the scope of health care coverage for Americans. Cost savings through disease prevention is an important element of this legislation and ACA has established a Prevention and Public Health Fund (PPHF) for this purpose. Specifically, the legislation states in Section 4002 that the PPHF is to “provide for expanded and sustained national investment in prevention and public health programs to improve health and help restrain the rate of growth in private and public sector health care costs. ACA and the Prevention and Public Health Fund make improving public health a priority with investments to improve public health.

The PPHF states that the Secretary shall transfer amounts in the Fund to accounts within the Department of Health and Human Services to increase funding, over the fiscal year 2008 level, for programs authorized by the Public Health Services Act, for prevention, wellness and public health activities including prevention research and health screenings, such as the Community Transformation Grant Program, the Education and Outreach Campaign for Preventative Benefits, and Immunization Programs.

ACA legislation affords an important opportunity to advance public health across the lifespan and to reduce health disparities by supporting an intensive community approach to chronic disease prevention and control.

Therefore, the FOA program activities CDC proposes to fund with ACA appropriations are authorized by the amendment to the Public Health Services Act which authorized the Prevention and Wellness Program.

Dated: August 9, 2011.
Tanja Popovic,
Deputy Associate Director for Science, Centers for Disease Control and Prevention.

[FR Doc. 2011-21343 Filed 8-22-11; 8:45 am]

BILLING CODE 4163-18-P